ENVIRONMENTAL PROTECTION AGENCY

40 CFR Part 52

[EPA-R05-OAR-2024-0542; FRL-12793-03-R5]

Air Plan Approval; Ohio; Second Maintenance Plan for the Ohio Portion of the Campbell-Clermont, KY-OH SO2 Maintenance Area

AGENCY: Environmental Protection Agency (EPA).

ACTION: Direct final rule.

SUMMARY: The Environmental Protection Agency (EPA) is approving, under the Clean Air Act (CAA), the second 10-year maintenance plan submitted to EPA on November 7, 2024, by the Ohio Environmental Protection Agency (Ohio EPA) for the Ohio portion of the Campbell-Clermont Counties, Kentucky-Ohio maintenance area. The Ohio portion of this area consists of Pierce Township in Clermont County, Ohio. The plan addresses the second 10-year maintenance period for the 2010 sulfur dioxide (SO2) National Ambient Air Quality Standards (NAAQS). EPA is approving Ohio EPA's submittal for the area because it provides for the continued maintenance of the 2010 SO2 NAAQS through the end of the second 10-year portion of the maintenance period.

DATES: This direct final rule will be effective September 15, 2025, unless EPA receives adverse comments by August 15, 2025. If adverse comments are received, EPA will publish a timely withdrawal of the direct final rule in the Federal Register informing the public that the rule will not take effect.

ADDRESSES: Submit your comments, identified by Docket ID No. EPA-R05-OAR-2024-0542 at https://www.regulations.gov, or via email to arra.sarah@epa.gov. For comments submitted at Regulations.gov, follow the online instructions for submitting comments. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Cecilia Magos, Air and Radiation Division (AR18J), Environmental Protection Agency, Region 5, 77 West Jackson Boulevard, Chicago, Illinois 60604, (312) 886-7336, magos.cecilia@epa.gov. The EPA Region 5 office is open from 8:30 a.m. to 4:30 p.m., Monday through Friday, excluding Federal holidays.

SUPPLEMENTARY INFORMATION: Throughout this document whenever “we,” “us,” or “our” is used, we mean EPA.

I. Background

On June 22, 2010 (75 FR 35520), EPA promulgated a new 1-hour primary SO2 NAAQS of 75 parts per billion (ppb). EPA promulgated designations for this standard in four rounds. On August 5, 2013 (78 FR 47191), EPA designated the Campbell-Clermont Counties, KY-OH area as nonattainment due to the measured violations of the 2010 SO2 NAAQS. The Ohio portion of the nonattainment area consists of Pierce Township in Clermont County, Ohio. EPA conducted designations for the 2010 SO2 NAAQS based on monitoring data from the years 2009 to 2011 from the nearby SO2 monitor in Highland Heights, Campbell County, Kentucky (AQS Site ID: 21-037-3002, coordinates 39.021881, −84.474450).

By April 5, 2015, Ohio and Kentucky were both required to submit a nonattainment State Implementation Plan (SIP) that met the requirements of CAA sections 172(c) and 191-192, and provided for attainment of the 2010 primary SO2 NAAQS as expeditiously as practicable, but no later than October 4, 2018. Air analysis conducted by Ohio EPA in Clermont County, Ohio found one source, the Walter C. Beckjord plant (Beckjord plant), to be the main contributor of SO2 monitored violations in the nonattainment area. The 2014 shutdown and later demolition of the Beckjord plant resulted in a significant, permanent, and enforceable reduction in SO2 emissions affecting the nonattainment area. The monitored SO2 design value at the nearby Highland Heights monitor for 2012 to 2014 was 72 parts per billion (ppb), below the 2010 SO2 NAAQS. As a result, Ohio EPA chose to submit a redesignation and maintenance plan request for the Pierce Township, Ohio portion of the Campbell-Clermont, KY-OH nonattainment area to EPA on August 11, 2015. The submission included a plan to provide for maintenance of the 2010 SO2 NAAQS in the area for the first 10-year period.

On November 21, 2016 (81 FR 83158), EPA redesignated the Ohio portion of the Campbell-Clermont, KY-OH 2010 SO2 nonattainment area to attainment and approved the associated maintenance plan into the Ohio SIP. The purpose of Ohio EPA's November 7, 2024, submittal is to fulfill the second 10-year planning requirement of CAA section 175A(b) to ensure compliance with the 2010 SO2 NAAQS through 2036.

II. EPA's Evaluation of the Second Maintenance Plan

Section 175A of the CAA sets forth the elements of a maintenance plan for areas seeking redesignation from nonattainment to attainment. Under section 175A, a State must submit a revision to the SIP that demonstrates the applicable NAAQS will continue to attain for at least 10 years after an area is redesignated to attainment. Section 175A also requires that eight years after the redesignation, the State must submit a revised maintenance plan demonstrating that attainment will continue to be maintained for the 10 years following the initial 10-year period. To address the possibility of future NAAQS violations, the maintenance plan must contain contingency measures deemed necessary to ensure prompt corrections of any future NAAQS violations.

EPA's 1992 Calcagni Memo provides further guidance on the content and requirements of an approvable maintenance plan.¹ Specifically, the maintenance plan should address five requirements: (1) an attainment emissions inventory, (2) a maintenance demonstration, (3) continued air quality monitoring, (4) verification of continued attainment, and (5) contingency measures.

¹ Calcagni, John, Director, Air Quality Management Division, EPA Office of Air Quality Planning and Standards, “Procedures for Processing Requests to Redesignate Areas to Attainment,” September 4, 1992. (Calcagni Memo)

Ohio EPA's November 7, 2024, second 10-year maintenance plan request outlines a plan for continued maintenance of the 2010 SO2 NAAQS for the Pierce Township, Ohio portion of the Campbell-Clermont, KY-OH maintenance area through 2036. EPA is approving Ohio EPA's November 7, 2024, submittal, which contains Ohio EPA's maintenance plan and all the necessary components, as a revision to the Ohio SIP.

A. Attainment Emissions Inventory

For maintenance plans, a State should develop a comprehensive and accurate inventory of actual emissions for an attainment year that identifies the level of emissions in an area sufficient to maintain the NAAQS. Ohio EPA submitted an attainment emission inventory which addresses the Campbell-Clermont, KY-OH maintenance area's base year emissions and projections of future emissions for point, mobile sources, and other area sources.

Ohio EPA is designating 2016 as its base year inventory for the second 10-year maintenance period. The base year inventory of 2016 represents a comprehensive, accurate, and current inventory of actual emissions that satisfies section 172(c)(3), due to the permanent shutdown of the Beckjord plant in 2014, which led to significant, permanent and enforceable SO2 emissions reductions in the area. EPA also approved Ohio EPA's redesignation and first maintenance plan in 2016 (81 FR 83158, November 21, 2016). EPA finds using 2016 as the base year to be appropriate for the second 10-year period of the second maintenance plan submittal. The total SO2 emissions for the Ohio portion of the Campbell-Clermont, KY-OH maintenance area for the 2014 attainment year were 32,610.56 tons per year (tpy). The total SO2 emissions in the Campbell-Clermont, KY-OH maintenance area for the 2016 base year were 33.08 tpy, with 10.18 tpy from Ohio sources as shown in Table 1 below.

Table 1—2016 Base Year SO2 Emissions From the Campbell-Clermont, KY-OH Area
[tpy]
| EGU point | Non-EGU | Non-road | Other | On-road | Total
Ohio | 0.00 | 0.10 | 2.83 | 6.31 | 0.94 | 10.18
Kentucky | 0.00 | 2.06 | 0.85 | 15.46 | 4.53 | 22.90
Area Total | 0.00 | 2.16 | 3.68 | 21.77 | 5.47 | 33.08

B. Maintenance Demonstration

Ohio EPA is demonstrating maintenance through 2036 by showing that future emissions of SO2 for the Campbell-Clermont, KY-OH area remain at or below attainment year emission levels. For the second maintenance period, 2036 is an appropriate year because it is 10 years beyond the first 10-year maintenance period. Ohio EPA projected the 2036 emissions inventory for the Campbell-Clermont, KY-OH on-road, non-road, and other source SO2 emissions to 2036 (using 2032 as a surrogate) from the EPA's 2016 version 2 emissions modeling platform (2016 v2 EMP).² As emissions have been shown to be decreasing over time, the emissions for 2036 were assumed to be the same as 2032, which is a conservative assumption. Annual emissions data are derived from the 2017 National Emissions Inventory (NEI). EPA recognizes that the 2016v2 EMP was the most recently available emissions modeling platform available at the time of Ohio EPA's SIP development that included projected SO2 emissions.³ Consistent with the first 10-year maintenance plan, biogenic emissions are negligible and not included in the inventory summaries.

² The inventory documentation for the modeling platform can be found here: https://www.epa.gov/air-emissions-modeling/2016v2-platform.

³ EPA released the 2022v1 Emissions Modeling Platform on October 21, 2024, which included analytic year SO2 emissions inventories for the years 2026, 2032, and 2038. See https://www.epa.gov/air-emissions-modeling/2022v1-emissions-modeling-platform.

The first maintenance plan for the area did not establish emission budgets, since the area was first designated nonattainment based on emissions from nearby sources that have since shutdown.⁴ Additionally, Ohio EPA conducted a review of U.S. census data to indicate the stagnant population growth in the Pierce Township area and project the 2036 population size. The area saw a decrease in population growth from 14.5% in 2000 to 2010 to 4.7% in 2010 to 2020. Further, according to Ohio EPA, the calculated expected population growth in the first 10-year maintenance plan submittal for the year 2020 was 15,146 for the Pierce Township area.⁵ The 2020 U.S. Census data confirmed the actual 2020 population size to be 15,096.⁶ Based on limited population growth and the permanent shutdown of sources that had contributed to the nonattainment status of the area, EPA did not consider an updated emissions budget to be necessary as part of the second maintenance plan submittal for the Campbell-Clermont, KY-OH area.

⁴ See EPA Round 1 Ohio State Recommendation TSD: https://www.epa.gov/sites/default/files/2016-03/documents/oh-epa-tsd.pdf.

⁵ See 81 FR 83158 (November 21, 2016), Campbell-Clermont KY-OH Area 2010 SO2 Redesignation and Maintenance Plan submittal, Appendix C.

⁶ See https://data.census.gov/all?q=pierce+township,+ohio.

The 2036 second 10-year maintenance period emissions inventory for the Campbell-Clermont, KY-OH maintenance area is summarized in Table 2 below. The maintenance demonstration for the Campbell-Clermont, KY-OH area shows maintenance of the 2010 SO2 NAAQS by providing emissions information to support the demonstration that future emissions of SO2 will remain at or below the 2016 base year levels and 2014 attainment year levels, taking into account future source growth and implementation of future controls. Table 2 shows total SO2 emissions in the Campbell-Clermont, KY-OH area are expected to decrease by 4.31 tpy between 2016 and 2036.

Table 2—2016 and 2036 Second Maintenance Period Combined Campbell-Clermont, KY-OH Area SO2 Emission Inventories
[tpy]
Source category | 2016 Base year | 2036 Future year | Net-change (2016-2036)
Ohio:
EGU Point | 0.0 | 0.0 | 0.0
Non-EGU | 0.10 | 0.14 | 0.04
Non-Road | 2.83 | 1.38 | −1.45
Other | 6.31 | 6.26 | −0.05
On-Road | 0.94 | 0.36 | −0.58
Total | 10.18 | 8.14 | −2.04
Kentucky:
EGU Point | 0.0 | 0.0 | 0.0
Non-EGU | 2.06 | 2.07 | 0.01
Non-Road | 0.85 | 0.43 | −0.42
Other | 15.46 | 15.46 | 0.0
On-Road | 4.53 | 2.67 | −1.86
Total | 22.90 | 20.63 | -2.27
Area Total | 33.08 | 28.77 | −4.31

C. Monitoring Network

The monitoring data for the Campbell-Clermont, KY-OH area is based on air quality data collected from the monitor located in Highland Heights, Campbell County, Kentucky. Monitoring data for the area from the Highland Heights monitor for the Campbell-Clermont, KY-OH area has been certified and recorded in EPA's Air Quality System database. Ohio EPA and Kentucky Division of Air Quality (DAQ) have committed to continue monitoring for SO2 in the Campbell-Clermont, KY-OH area. Table 3 shows the 99th percentile results of the Campbell-Clermont area Highland Heights monitor, complete, quality-assured data. The overall 2021-2023 design value for the Campbell-Clermont, KY-OH area is 8 ppb, remaining well below the 2010 SO2 NAAQS level of 75 ppb. For every 3-year period since the 2012-2014 design value period, the Highland Heights monitor has had a design value below the 2010 SO2 NAAQS.

Table 3—Monitoring Data for the Campbell-Clermont, KY-OH Maintenance Area
AQS site | Location | Year (ppb): 2016 | Year (ppb): 2017 | Year (ppb): 2018 | Year (ppb): 2019 | Year (ppb): 2020 | Year (ppb): 2021 | Year (ppb): 2022 | Year (ppb): 2023
21-037-3002 | Campbell County, KY | 12 | 16 | 9 | 8 | 10 | 9 | 9.9 | 4.8

Ohio EPA has committed to consult with Kentucky DAQ to continue the operation of an appropriate monitoring network. Kentucky DAQ is committed to monitoring SO2 levels according to an EPA approved monitoring plan, as required to ensure maintenance of the 2010 SO2 NAAQS. Should changes in the location of an SO2 monitor become necessary, Kentucky DAQ has assured Ohio that it will consult with EPA prior to making changes to ensure the adequacy of the monitoring network and ensure compliance with 40 CFR part 58 and all other federal requirements. Kentucky DAQ has also assured Ohio EPA it will remain obligated to meet monitoring requirements and continue to qualify and assure monitoring data in accordance with 40 CFR part 58, and to enter all data into the Air Quality System (AQS) in accordance with Federal guidelines.

D. Verification of Continued Attainment

The 2014 SO2 Guidance states each air agency should ensure that it has the legal authority to implement and enforce all measures necessary to attain and maintain the 2010 SO2 NAAQS. The air agency's submittal should include how it will track progress of the maintenance plan for the area either through air quality monitoring or modeling.

Ohio EPA has the legal authority to enforce and implement the requirements of the maintenance plan for the Ohio portion of the Campbell-Clermont, KY-OH area. This includes the authority to adopt, implement, and enforce any subsequent emission control measures determined to be necessary to correct future SO2 attainment problems. Also, Ohio EPA will continue to operate an approved SO2 monitoring network in the Campbell-Clermont, KY-OH area. There are no plans to discontinue operation, relocate, or otherwise change the existing SO2 monitoring network other than through revisions in the network approved by EPA.

To track future levels of emissions, Ohio EPA will continue to submit air emissions information annually in accordance with EPA's Air Emissions Reporting Rule (AERR) and submit to EPA updated emission inventories for all source categories at least once every three years, consistent with the requirements of 40 CFR part 51, subpart A, and in 40 CFR 51.122.

E. Contingency Plan

Section 175A of the CAA requires that the State adopt a maintenance plan, as a SIP revision, that includes such contingency measures as EPA deems necessary to ensure that the State will promptly correct a violation of the NAAQS that occurs after redesignation of the area to attainment of the NAAQS. The maintenance plan must identify: the contingency measures to be considered and, if needed for maintenance, adopted and implemented; a schedule and procedure for adoption and implementation; and, a timeframe for action by the State. The State should also identify specific indicators to be used to determine when the contingency measures need to be considered, adopted, and implemented. The maintenance plan must include a commitment that the State will implement all measures with respect to the control of the pollutant that were contained in the SIP before redesignation of the area to attainment in accordance with section 175A(d) of the CAA.

Ohio EPA has an active enforcement program to address any future violations and commits to continue operating a comprehensive program to identify violations of the 2010 SO2 NAAQS. This includes aggressive follow-up for compliance and enforcement, and a commitment to implement necessary corrective actions in the event of a violation. Furthermore, if a new measure or control is already promulgated and scheduled to be implemented at the Federal or State level, and Ohio EPA determines it to be sufficient to address a 2010 SO2 violation, local measures may be unnecessary. Ohio EPA will submit to EPA an analysis demonstrating the proposed measures are adequate to return the area to attainment.

Fully validated and quality assured SO2 monitoring data will serve as the primary trigger for any responses to prevent or correct a NAAQS violation in the area. Ohio EPA has established both warning and action level responses, each with specific triggering indicators.

A warning level response will occur when the annual average 99th percentile daily maximum 1-hour SO2 concentration of 79 ppb occurs in the area in a single calendar year. A warning level response will prompt a study to determine if the trigger indicates a trend toward increasing SO2 concentrations in the Campbell-Clermont, KY-OH area. The study will help examine if there is a trend towards higher SO2 values or emissions appear to be increasing and determine the control measures needed to reverse the trend. The implementation of controls will take place as expeditiously as possible but no later than 12 months from the conclusion of the most recent calendar year.

An action level response will occur when the two-year average of the 99th percentile daily maximum 1-hour SO2 concentration of 76 ppb or greater occurs in the area. Additionally, a violation of the standard, where the three-year average of the 99th percentile daily maximum 1-hour value of SO2 concentration is 75 ppb or higher, will also prompt an action level response. This response will require Ohio EPA, in conjunction with the metropolitan planning organization or regional council of governments, to determine additional control measures needed to ensure future attainment of the 2010 SO2 NAAQS. Ohio will select measures that can be implemented within 18 months from the close of the calendar year that prompted an action level response. Ohio may also determine that significant new regulations not currently included as part of the maintenance provisions will be implemented in a timely manner and constitute an action level response.

Ohio EPA has specified the selected contingency measures will be adopted from a comprehensive list of measures deemed appropriate and effective at the time the selection is made. This list of measures will be based on cost-effectiveness, emission reduction potential, economic and social considerations or other factors deemed appropriate by Ohio EPA.

III. What action is EPA taking?

EPA is approving the second 10-year period SO2 maintenance plan for the Pierce Township, Ohio portion of the Campbell-Clermont counties, KY-OH 2010 SO2 NAAQS maintenance area, submitted by Ohio EPA on November 7, 2024. EPA's review of the air quality for the maintenance area indicates continued attainment well below the level of the 2010 SO2 NAAQS through 2036. EPA's approval of the maintenance plan will satisfy CAA section 175A requirements for the second 10-year maintenance period for the Ohio portion of the Campbell-Clermont, KY-OH area.

We are publishing this action without prior proposal because we view this as a noncontroversial amendment and anticipate no adverse comments. However, in the proposed rules section of this Federal Register publication, we are publishing a separate document that will serve as the proposal to approve the state plan if relevant adverse written comments are filed. This rule will be effective September 15, 2025 without further notice unless we receive relevant adverse written comments by August 15, 2025. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective September 15, 2025.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Reporting and recordkeeping requirements, Sulfur oxides.

Dated: July 1, 2025.
Cheryl Newton,
Acting Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.1870, the table in paragraph (e) is amended under “Summary of Criteria Pollutant Maintenance Plan” by revising the entry for “SO2 (2010)” to read as follows:

§ 52.1870 Identification of plan.

* * * * *

(e) * * *

EPA-Approved Ohio Nonregulatory and Quasi-Regulatory Provisions
Title | Applicable geographical or non-attainment area | State date | EPA approval | Comments
* * * * * * *
Summary of Criteria Pollutant Maintenance Plan
* * * * * * *
SO2 (2010) | Campbell-Clermont (Pierce Township in Clermont County) | 11/07/2024 | 7/16/2025, 90 FR [insert Federal Register page where the document begins] | 2nd Maintenance Plan.
* * * * * * *

* * * * *

[FR Doc. 2025-13344 Filed 7-15-25; 8:45 am]

BILLING CODE 6560-50-P